Title 3—

The President

Proclamation 7415 of March 8, 2001

National Colorectal Cancer Awareness Month, 2001

By the President of the United States of America

A Proclamation

Last year, approximately 130,000 new cases of colorectal cancer were diagnosed in the United States. This is a startling number. Late diagnosis is one reason why colorectal cancer, cancer of the colon and rectum, is the second leading cause of cancer-related deaths for Americans. The disease strikes men and women with almost equal frequency and often progresses without symptoms. Fortunately, colorectal cancer is usually curable when discovered early, and early diagnosis is possible through regular screenings. Regular screenings are particularly important for persons age 50 or older. Regular screenings are also important for individuals considered at higher risk for the disease.

Widespread screening for colorectal cancer could save up to 30,000 lives a year, if all cases were found at an early stage. To raise awareness about the disease and to encourage regular screening, the Cancer Research Foundation of America, the National Colorectal Cancer Roundtable, and the American Digestive Health Foundation have joined together to encourage Americans to observe March 2001 as National Colorectal Cancer Awareness Month.

NOW, THEREFORE, I, GEORGE W. BUSH, President of the United States of America, by virtue of the authority vested in me by the Constitution of the United States, do hereby proclaim March 2001 as National Colorectal Cancer Awareness Month. By supporting continued education about this disease and research into treatment and prevention, Americans can help stop colorectal cancer and save many lives.

IN WITNESS WHEREOF, I have hereunto set my hand this eighth day of March, in the year of our Lord two thousand one, and of the Independence of the United States of America the two hundred and twenty-fifth.

B

[FR Doc. 01-6309

Filed 3-9-01; 10:39 am]

Billing code 3195-01-P